COMMISSION ON CIVIL RIGHTS

Sunshine Act Notice

AGENCY: U.S. Commission on Civil Rights.

DATE AND TIME: Friday, November 9, 2001, 9:30 a.m.

PLACE: Commission on Civil Rights, 624 Ninth Street, NW., Room 540, Washington, DC 20425.

STATUS:

Agenda

I. Approval of Agenda

II. Approval of Minutes of October 12, 2001 Meeting

III. Announcements

IV. Staff Director's Report

V. State Advisory Committee Appointments for Alaska, California, Iowa, Mississippi, New Jersey, Nevada, North Carolina, South Carolina, Vermont, and Washington

VI. Election Reform Recommendations

VII. Future Agenda Items

CONTACT PERSON FOR FURTHER INFORMATION: David Aronson, Press and Communications (202) 376-8312.

Michael L. Foreman,
Acting Deputy General Counsel.

[FR Doc. 01-27606 Filed 10-30-01; 2:46 pm]

BILLING CODE 6335-0-M